DEPARTMENT OF ENERGY

Federal Energy Regulatory Commission

Combined Notice of Filings #1

Take notice that the Commission received the following electric rate filings:

Docket Numbers: ER10-1391-004.

Applicants: San Diego Gas & Electric Company.

Description: Compliance filing: San Diego Gas & Electric submits tariff filing per 35: SDG&amp;E WDAT Update Volume 6—2026 Compliance Filing to be effective 8/15/2024.

Filed Date: 1/20/26.

Accession Number: 20260120-5135.

Comment Date: 5 p.m. ET 2/10/26.

Docket Numbers: ER19-289-009; ER19-2462-007; ER18-2264-009; ER13-1485-013; ER10-3253-013; ER19-461-004; ER14-1777-011; ER18-1310-004; ER10-3240-013; ER10-3230-013; ER15-2722-009; ER10-3239-013.

Applicants: Wheelabrator Westchester L.P., Wheelabrator Saugus Inc., Wheelabrator Portsmouth Inc., Wheelabrator North Andover Inc., Wheelabrator Millbury Inc., Wheelabrator Falls Inc., Wheelabrator Concord Company, L.P., Wheelabrator Bridgeport, L.P., Wheelabrator Baltimore, L.P., Macquarie Energy Trading LLC, Macquarie Energy LLC, Cleco Cajun LLC.

Description: Response to 12/16/2025 Deficiency Letter of Cleco Cajun LLC et al.

Filed Date: 1/15/26.

Accession Number: 20260115-5221.

Comment Date: 5 p.m. ET 2/5/26.

Docket Numbers: ER24-2776-002.

Applicants: Southern California Edison Company.

Description: Compliance filing: WDAT Order 2023 Further Compliance Filing to be effective 8/15/2024.

Filed Date: 1/20/26.

Accession Number: 20260120-5150.

Comment Date: 5 p.m. ET 2/10/26.

Docket Numbers: ER24-3032-001.

Applicants: Pacific Gas and Electric Company.

Description: Compliance filing: WDT: Second Order No. 2023 Compliance Filing to be effective 9/16/2024.

Filed Date: 1/20/26.

Accession Number: 20260120-5113.

Comment Date: 5 p.m. ET 2/10/26.

Docket Numbers: ER26-361-001.

Applicants: Tri-State Generation and Transmission Association, Inc.

Description: Tariff Amendment: Response to Deficiency Letter to be effective 1/1/2026.

Filed Date: 1/16/26.

Accession Number: 20260116-5163.

Comment Date: 5 p.m. ET 2/6/26.

Docket Numbers: ER26-428-001.

Applicants: Priority Power Management LLC.

Description: Tariff Amendment: Response to Deficiency Letter ER26-428—to be effective 1/5/2026.

Filed Date: 1/20/26.

Accession Number: 20260120-5198.

Comment Date: 5 p.m. ET 2/10/26.

Docket Numbers: ER26-1076-000.

Applicants: NorthWestern Corporation.

Description: § 205(d) Rate Filing: RS 255—Cert of Concurrence COA with MATL to be effective 12/15/2025.

Filed Date: 1/16/26.

Accession Number: 20260116-5146.

Comment Date: 5 p.m. ET 2/6/26.

Docket Numbers: ER26-1077-000.

Applicants: Midcontinent Independent System Operator, Inc.

Description: § 205(d) Rate Filing: 2026-01-20_SA 4359 ATC-WPL 1st Rev GIA (J1706) to be effective 1/14/2026.

Filed Date: 1/20/26.

Accession Number: 20260120-5040.

Comment Date: 5 p.m. ET 2/10/26.

Docket Numbers: ER26-1079-000.

Applicants: PJM Interconnection, L.L.C.

Description: § 205(d) Rate Filing: Original GIA, Service Agreement No. 7796; Project Identifier No. AF2-042 to be effective 12/19/2025.

Filed Date: 1/20/26.

Accession Number: 20260120-5054.

Comment Date: 5 p.m. ET 2/10/26.

Docket Numbers: ER26-1080-000.

Applicants: PJM Interconnection, L.L.C.

Description: § 205(d) Rate Filing: GIA, SA No. 7798; AF2-120/AG1-536 and Cancellation of SA Nos. 6897 and 6898 to be effective 12/19/2025.

Filed Date: 1/20/26.

Accession Number: 20260120-5072.

Comment Date: 5 p.m. ET 2/10/26.

Docket Numbers: ER26-1081-000.

Applicants: Midcontinent Independent System Operator, Inc.

Description: § 205(d) Rate Filing: 2026-01-20_SA 4659 Minnesota Power-Minnesota Power GIA (E0011) to be effective 1/9/2026.

Filed Date: 1/20/26.

Accession Number: 20260120-5076.

Comment Date: 5 p.m. ET 2/10/26.

Docket Numbers: ER26-1082-000.

Applicants: PJM Interconnection, L.L.C.

Description: § 205(d) Rate Filing: GIA, SA No. 7799; AF1-128 and Cancellation of SA Nos. 6993 and 6994 to be effective 12/19/2025.

Filed Date: 1/20/26.

Accession Number: 20260120-5097.

Comment Date: 5 p.m. ET 2/10/26.

Docket Numbers: ER26-1083-000.

Applicants: Indiana Michigan Power Company.

Description: § 205(d) Rate Filing: AEP submits SA No. 1448 Facilities Agreement to be effective 4/1/2026.

Filed Date: 1/20/26.

Accession Number: 20260120-5147.

Comment Date: 5 p.m. ET 2/10/26.

Docket Numbers: ER26-1084-000.

Applicants: PJM Interconnection, L.L.C.

Description: § 205(d) Rate Filing: Original GIA, SA No. 7797; Project Identifier No. AG1-285 to be effective 12/19/2025.

Filed Date: 1/20/26.

Accession Number: 20260120-5184.

Comment Date: 5 p.m. ET 2/10/26.

Take notice that the Commission received the following public utility holding company filings:

Docket Numbers: PH26-8-000.

Applicants: Canada Pension Plan Investment Board.

Description: Canada Pension Plan Investment Board submits FERC 65-B Notice of Change in Fact to Waiver Notification.

Filed Date: 1/14/26.

Accession Number: 20260114-5200.

Comment Date: 5 p.m. ET 2/4/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 20, 2026.
Carlos D. Clay,
Deputy Secretary.

[FR Doc. 2026-01277 Filed 1-22-26; 8:45 am]

BILLING CODE 6717-01-P